DEPARTMENT OF THE INTERIOR

Bureau of Indian Affairs

Notice of Intent To Prepare an Environmental Impact Statement for the Proposed Los Coyotes Band of Cahuilla and Cupeño Indians and the Big Lagoon Rancheria's Fee-to-Trust Transfer and Casino-Hotel Project, San Bernardino County, CA

AGENCY: Bureau of Indian Affairs, Interior.

ACTION: Notice.

SUMMARY: This notice advises the public that the Bureau of Indian Affairs (BIA) as lead agency, with the National Indian Gaming Commission, Los Coyotes Band of Cahuilla and Cupeño Indians and Big Lagoon Rancheria as cooperating agencies, intends to gather information necessary for preparing an Environmental Impact Statement (EIS) for a proposed 45 acre fee-to-trust transfer and casino and hotel project to be located in San Bernardino County, California. The purpose of the proposed action is to help improve the tribal economy of the Los Coyotes Band of Cahuilla and Cupeno Indians and Big Lagoon Rancheria (hereinafter collectively referred to as the Tribes) and assist tribal members to attain economic self-sufficiency. This notice also announces a public scoping meeting to identify potential issues, concerns and alternatives to be considered in the EIS.

DATES: Written comments on the scope and implementation of this proposal must arrive by May 19, 2006. The public scoping meeting will be held May 4, 2006, from 6 p.m. to 9 p.m. (local time), or until the last public comment is received.

ADDRESSES: You may mail or hand carry written comments to Clay Gregory, Regional Director, Pacific Regional Office, Bureau of Indian Affairs, 2800 Cottage Way, Sacramento, California 95825. Please include your name, return caption, address and “DEIS Scoping Comments, Los Coyotes Band of Cahuilla and Cupeno Indians and Big Lagoon Rancheria, 45 Acre Fee to Trust Casino/Hotel Project, San Bernardino County, California,” on the first page of your written comments.

The public scoping meeting will be held in the Barstow Community College Gymnasium, 2700 Barstow Road, Barstow, California 92311.

FOR FURTHER INFORMATION CONTACT: John Rydzik, (916) 978-6042.

SUPPLEMENTARY INFORMATION: The Tribes propose that approximately 45 acres of land be taken into trust and subsequently, two casinos, two hotels, parking and other facilities supporting the casinos be constructed on the proposed trust acquisition property. The subject property is located within the incorporated boundaries of the City of Barstow, San Bernardino County, California, just east of Interstate 15. State Highways 58 and 247 and Interstate 40 are located nearby.

The site is predominantly undeveloped, bounded on the north by Mercantile Way, on the west by Lenwood Road and commercial/light industrial development, on the south by vacant Bureau of Land Management land and on the east by vacant land. The proposed project is to develop two adjacent casinos of approximately 49,000 square feet each. Associated facilities which would be constructed include food and beverage services, retail space, banquet/meeting space and administration space. Food and beverage facilities would include two full service restaurants, two food courts of four venues each, two coffee shops and two lounge bars. Two five-story hotels, each having approximately 100 rooms, would also be constructed. Approximately 3,900 parking spaces would be provided, of which about one-fourth would be in two equally sized garages. Regional access to the project site is via Interstate 15 and State Highway 247. Lenwood Road and Mercantile Way would provide direct access to the proposed casino resort.

Areas of environmental concern to be addressed in the EIS include land resources, water resources, biological resources, cultural resources, traffic and transportation, noise, air quality, public health/environmental hazards, public services and utilities, hazardous waste and materials, socio-economics, environmental justice and visual resources/aesthetics. In addition to the proposed action, a reasonable range of alternatives, including the no-action alternative, will be analyzed in the EIS. Other possible alternatives currently under consideration are two reduced-intensity alternatives and two alternate sites. The range of issues and alternatives may be expanded based on comments received during the scoping process.

Public Comment Availability

Comments, including names and addresses of respondents, will be available for public review at the BIA address shown in the ADDRESSES section, during business hours, 8 a.m. to 4:30 p.m., Monday through Friday, except holidays. Individual respondents may request confidentiality. If you wish us to withhold your name and/or address from public review or from disclosure under the Freedom of Information Act, you must state this prominently at the beginning of your written comment. Such requests will be honored to the extent allowed by the law. We will not, however, consider anonymous comments. All submissions from organizations or businesses, and from individuals identifying themselves as representatives or officials of organizations or businesses, will be made available for public inspection in their entirety.

Authority

This notice is published in accordance with sections 1503.1 of the Council on Environmental Quality Regulations (40 CFR parts 1500 through 1508) implementing the procedural requirements of the National Environmental Policy Act of 1969, as amended (42 U.S.C. 4321 et seq.), and the Department of the Interior Manual (516 DM 1-6), and is in the exercise of authority delegated to the Principal Deputy Assistant Secretary “ Indian Affairs by 209 DM 8.l.

Dated: April 5, 2006.
Michael D. Olsen,
Acting Principal Deputy Assistant Secretary—Indian Affairs.

[FR Doc. 06-3779 Filed 4-18-06; 8:45 am]

BILLING CODE 4310-W7-P